POSTAL SERVICE

International Product Change—Inbound Expedited Services 4

AGENCY: Postal Service™.

ACTION: Notice.

SUMMARY: The Postal Service gives notice of its filing a request with the Postal Regulatory Commission to add Inbound Expedited Services 4 to the Competitive Product List pursuant to 39 U.S.C. 3642.

DATES: October 14, 2010.

FOR FURTHER INFORMATION CONTACT: Margaret M. Falwell, 703-292-3576.

SUPPLEMENTARY INFORMATION: The United States Postal Service® hereby gives notice that it filed with the Postal Regulatory Commission, on September 30, 2010, a request to add Inbound Expedited Services 4 to the Competitive Product List. The bases for determining that this is a competitive product and that it satisfies the requirements of 39 U.S.C. 3633 are included in the documents available in Docket Nos. MC2010-37 and CP2010-126 on the Postal Regulatory Commission's Web site, http://www.prc.gov.

Neva R. Watson,
Attorney, Legislative.

[FR Doc. 2010-25911 Filed 10-13-10; 8:45 am]

BILLING CODE 7710-12-P